DEPARTMENT OF DEFENSE

Office of the Secretary

[Transmittal No. 22-0I]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0I.

Dated: August 1, 2024.
Aaron T. Siegel,
Alternate OSD Federal Register Liaison Officer, Department of Defense.

BILLING CODE 6001-FR-P

BILLING CODE 6001-FR-C

Transmittal No. 22-0I

REPORT OF ENHANCEMENT OR UPGRADE OF SENSITIVITY OF TECHNOLOGY OR CAPABILITY (SEC. 36(B)(5)(C), AECA)

(i) Purchaser: Government of Kuwait

(ii) Sec. 36(b)(1), AECA Transmittal No.: 20-19

Date: December 29, 2020

Military Department: Army

Funding Source: National Funds

(iii) Description: On December 29, 2020, Congress was notified by Congressional certification transmittal number 20-19, of the possible sale under Section 36(b)(1) of the Arms Export Control Act of eight (8) AH-64E Apache Longbow Attack Helicopters and the remanufacture sixteen (16) of their AH-64D Apache Longbow Attack Helicopters to the AH-64E configuration consisting of: eight (8) AH-64E Apache Helicopters (new procurement); sixteen (16) AH-64E Apache Helicopters (remanufacture); twenty-two (22) T700-GE 701D engines; thirty-six (36) remanufactured T700-GE 701D engines; twenty-seven (27) AN/AAR-57 Counter Missile Warning Systems (CMWS); eighteen (18) Embedded Global Position Systems with Inertial Navigation (EGI) with Multi-Mode Receiver (MMR); thirty-six (36) remanufactured EGIs with MMR; eight (8) AN/ASQ-170(V) Modernized Target Acquisition and Designation Sight/AN/AAQ-11 Pilot Night Vision Sensor (MTADS/PNVS); seventeen (17) AN/APG-78 Longbow Fire Control Radars (FCR) with Radar Electronics Units (REU); seventeen (17) APR-48B Modernized Radar Frequency Interferometers (M-RFI); eighteen (18) M299 AGM-114 Hellfire Missile Launchers; four (4) remanufactured M299 AGM-114 Hellfire Missile Launchers; eighteen (18) Hydra 70 (70mm) 2.75 Inch Rocket M260 Rocket Launchers; four (4) remanufactured Hydra 70 (70mm) 2.75 Inch Rocket M260 Rocket Launchers; nine (9) M230El 30mm Chain Gun M139 Area Weapons System (AWS) Guns; two (2) remanufactured M230El 30mm Chain Gun M139 AWS Guns; one (1) Longbow Crew Trainer (LCT); and one (1) remanufactured LCT. Also included were fifty-four (54) AN/ARC 201 non-COMSEC Very-High Frequency/Frequency Modulation (VHF/FM) radios; fifty-four (54) Ultra High Frequency (UHF) radios (AN/ARC 231 or MXF 4027); twenty-eight (28) Identify Friend or Foe Transponders (APX 123 or APX 119); twenty-seven (27) IDM 401 (Improved Data Modem); twenty-seven (27) Link 16 Datalinks; twenty-seven (27) AN/APR-39D (V)2 Radar Warning Receivers; twenty-seven (27) AN/AVR-2 Laser Warning Receivers; twenty-seven (27) Infrared Countermeasures Dispensers (2 flares, 1 chaff); nine (9) AN/ASN-157 Doppler Radar Velocity Sensors; nine (9) AN/ARN-149(V)3 Automatic Direction Finders (ADF); sixteen (16) remanufactured AN/ARN-149(V)3 ADFs; nine (9) AN/APN-209 Radar Altimeters; twenty-seven (27) AN/ARN-153 Tactical Airborne Navigation (TACAN) systems; sixteen (16) Manned-Unmanned Teaming International (MUM-Ti) (UPR) Air-to-Air-to Ground Data Link Systems; twenty-four (24) MUM-Ti (Ground) Air-to-Air-to-Ground Data Link Systems; twenty-four (24) 100 gallon Internal Auxiliary Fuel System (IAFS); twenty-four (24) 125 gallon Reduced Capacity Crashworthy External Fuel Systems (RCEFS); two (2) IAFS Spares; two (2) IAFS Publications; six (6) IAFS Ground Support Equipment (GSE) Apache Magazine and Auxiliary Tank Transfer Systems (AMATTS); five (5) IDM Software Loader Verifiers (SLV); training devices; helmets; simulators; generators; transportation; wheeled vehicles and organizational equipment; spare and repair parts; support equipment; tools and test equipment; technical data and publications; personnel training and training equipment; U.S. government and contractor engineering, technical, and logistics support services; and other related elements of logistics support. The estimated total program cost was $4 billion. Major Defense Equipment (MDE) constituted $2 billion of this total.

This transmittal notifies the following MDE items that were previously reported as non-MDE: fifty-four (54) AN/ARC-231A (RT-1987) radios. The following non-MDE items will also be included: M261 2.75-inch Rocket Launchers; and AN/AVS-6 Aviator Night Vision Devices (NVDs).

The estimated total value of these items is $39 million. The total MDE value will increase by $27 million to a total MDE value of $2.027 billion. The estimated total non-MDE value will decrease by $15 million (after deducting MDE values previously notified as non-MDE and adding new non-MDE costs), resulting in a total non-MDE value of $1.985 billion. The total estimated case value will increase to $4.012 billion.

(iv) Significance: This notification is being provided as the additional MDE items were enumerated as non-MDE in the original notification. The additional non-MDE items were left out of the original notification. The proposed articles and services will support Kuwait's ongoing effort to modernize its armed forces and increase its capacity to detect threats and control theirs borders, contributing to the maintenance of regional stability and security. This will contribute to the Kuwaiti military's effort to update its capabilities and enhance interoperability with the United States and other strategic allies.

(v) Justification: This proposed sale will support the foreign policy and national security objectives of the United States by helping to improve the security of a Major Non-NATO ally that has been an important force for political stability and economic progress in the Middle East.

(vi) Sensitivity of Technology:

The AN/ARC-231A (RT-1987) radio is a multi-mode software defined radio providing line of sight VHF/UHF secure/non-secure voice and data communications over the 30.000-941.000 MHz frequency and Satellite Communications (SATCOM) beyond line of sight secure/non-secure voice and data including Demand Assigned Multiple Access (DAMA) communications from 240-320 MHz frequency on manned and unmanned aviation platforms. ARC-231A includes improved type-1 cryptographic algorithm and processing capabilities, Civil Land Mobile Radio, Single Channel Ground and Airborne Radios System (SINCGARS) capabilities, HAVE QUICK (HQ), Second Generation Anti-Jam Tactical UHF Radio for NATO (SATURN) wave form, 8.33 kHz channel spacing for Global Air-Traffic Management (GATM) compliance, and capability for Mobile User Objective System (MUOS) waveform through possible future hardware and software updates.

The Sensitivity of Technology Statement contained in the original notification applies to other items reported here.

The highest level of classification of defense articles, components, and services included in this potential sale is SECRET.

(vii) Date Report Delivered to Congress: September 27, 2022

[FR Doc. 2024-17370 Filed 8-5-24; 8:45 am]

BILLING CODE 6001-FR-P